NATIONAL SCIENCE FOUNDATION

Agency Information Collection Activities: Comment Request; Analysis of Partnerships

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by February 6, 2023 to be assured consideration. Comments received after that date will be considered to the extent practical. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Information collection for evaluating NSF partnership activities.

OMB Number: 3145-NEW.

Expiration Date of Approval: Not applicable.

Type of Request: Intent to seek approval to establish an information collection.

Abstract: Building partnerships is a high priority for NSF, as evidenced by two consecutive Agency Priority Goals (APGs for FY 2018 and FY 2020) focused on developing a partnerships strategy. The importance of partnerships is also echoed in the recent National Science Board's Vision 2030 report and reflected in the new Directorate for Technology, Innovation and Partnerships (TIP). Partnerships are hypothesized to accelerate discovery in several ways: they can enable access to expertise, resources, and infrastructure; accelerate the flow of knowledge and expertise; and expand communities of researchers. NSF direct partnerships are established by NSF with other federal agencies, industry, private foundations, non-governmental organizations, and foreign science agencies.

NSF is requesting OMB approval for the NSF to collect information from past and present participants and partners in NSF partnership programs. The information collection will enable the Evaluation and Assessment Capability (EAC) Section within NSF to garner quantitative and qualitative information that will be used to inform programmatic improvements related to partnership models at NSF including partnerships between NSF and other entities and funding opportunities that require or encourage partnerships between grantees. This information collection, which entails collecting information from relevant NSF grantees and partners, is in accordance with the Agency's commitment to improving service delivery as well as the Agency's strategic goal to “advance the capability of the Nation to meet current and future challenges.”

Use of the Information: The data collected will be used for NSF internal and external reports related to partnerships, program level studies, and evaluations. These outputs will inform decisions NSF makes regarding future activities.

Respondents: Participants in NSF grants (principal investigators, partners, research personnel, etc.). Partners involved in NSF partnership programs.

Estimated Number of Respondents: 300.

Estimate Burden on the Public: Estimated at 450 hours for a one-time collection.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

Dated: December 1, 2022.
Suzanne H. Plimpton,
Reports Clearance Officer, National Science Foundation.

[FR Doc. 2022-26465 Filed 12-5-22; 8:45 am]

BILLING CODE 7555-01-P